DEPARTMENT OF HEALTH AND HUMAN SERVICES

Request for Nominations of Members to the Advisory Committee on Blood Safety and Availability

AGENCY: Department of Health and Human Services, Office of the Secretary, Office of Public Health and Science.

ACTION: Notice.

Authority: 42 U.S.C. 217a, Section 222 of the Public Health Service Act, as amended. The Advisory Committee on Blood Safety and Availability is governed by the provision of Public Law 92-463, as amended (5 U.S.C. Appendix 2) which sets forth standards for the formation and use of advisory committees.

SUMMARY: The Office of Public Health and Science (OPHS) is seeking nomination of qualified individuals to be considered for appointment as members on the Advisory Committee on Blood Safety and Availability (ACBSA). ACBSA is a Federal advisory committee in the Department of Health and Human Services. Management support for the activities of the Committee are the responsibility of OPHS.

The qualified individuals will be nominated to the Secretary of Health and Human services for consideration of appointment as members of the ACBSA. Members of the Committee, including the Chair, are appointed by the Secretary. Members are invited to serve on the Committee for overlapping three-year terms.

DATES: All nominations must be received no later than 4 p.m. e.d.t. April 3, 2006, at the address listed below.

ADDRESSES: All nominations shall be mailed or delivered to Jerry Holmberg, PhD, Executive Secretary, Advisory Committee on Blood Safety and Availability, Office of Public Health and Science, Department of Health and Human Services, 1101 Wootton Parkway, Suite 250, Rockville, MD 20852. Phone (240) 453-8803.

FOR FURTHER INFORMATION CONTACT: Jerry Holmberg, PhD, Executive Secretary, Advisory Committee on Blood Safety and Availability, Office of Public Health and Science, Department of Health and Human Services, 1101 Wootton Parkway, Suite 250, Rockville, MD 20852. Phone (240) 453-8803.

A copy of the Committee charter and roster of the current membership can be obtained by contacting Dr. Holmberg or by accessing the ACBSA Web site at http//www.hhs.gov/bloodsafety.

SUPPLEMENTARY INFORMATION: The ACBSA provides advice and assistance, consults with, and makes recommendations to the Secretary and the Assistant Secretary for Health on a broad range of policy issues regarding the collection, preparation, and distribution of blood and blood products. The broad range of issues the Committee provides policy advice on includes (1) Definition of public health parameters around safety and availability of the blood supply, (2) broad public health, ethical, and legal issues related to blood safety, and (3) the implications for blood safety and availability of various economic factors affecting product cost and supply.

The ACBSA consists of 18 voting members. The Committee is composed of 12 public members, including the Chair, and six (6) representative members. The public members are selected from State and local organizations, advocacy groups, provider organizations, academic researchers, ethicists, private physicians, scientists, consumer advocates, legal organizations, and from among communities of persons who are frequent recipients of blood or blood products. The six individuals who are appointed as official representative members are selected to serve the interests of the blood and blood products industry or professional organizations. The representative members are selected from the following groups: The American Association of Blood Banks, one of two major distributors of blood on a rotating basis, a trade organization or manufacturer of blood test kits or equipment, a company that produces leukoreduction processes, a major hospital organization that purchases blood and blood products, and a plasma protein therapeutic association.

All ACBSA members are authorized to receive the prescribed per diem allowance and reimbursement for travel expenses that are incurred to attend meetings and conduct Committee-related business, in accordance with Standard Government Travel Regulations. Individuals who are appointed to serve as public members are authorized also to receive a stipend for attending Committee meetings and to carry out other Committee-related business. Individuals who are appointed to serve as representative members for a particular interest group or industry are not authorized to receive a stipend for the performance of these duties.

This announcement is to solicit nominations of qualified candidates to fill positions on the ACBSA that are scheduled to be vacated in the public member category. The positions are scheduled to be vacated on September 30, 2006.

Nominations

In accordance with the charter, persons nominated for appointment as members of the ACBSA should be among authorities knowledgeable in blood banking, transfusion medicine, plasma therapies, bioethics and/or related disciplines. Nominations should be typewritten. The following information should be included in the package of material submitted for each individual being nominated for consideration of appointment: (a) The name, return address, daytime telephone number and affiliation(s) of the individual being nominated, the basis for the individual's nomination, the category for which the individual is being nominated, and a statement bearing an original signature of the nominated individual that, if appointed, he or she is willing to serve as a member of the Committee; (b) the name, return address, and daytime telephone number at which the nominator may be contacted. Organizational nominations must identify a principal contact person in addition to the contact; and (c) a copy of a current curriculum vitae or resume for the nominated individual.

Individuals can nominate themselves for consideration of appointment to the Committee. All nominations must include the required information. Incomplete nominations will not be processed for consideration. The letter from the nominator and certification of the nominated individual must bear original signatures; reproduced copies of these signatures are not acceptable.

The Department of Health and Human Services is committed to ensuring that women, minority groups, and physically challenged individuals are adequately represented on the Committee. Nominations of qualified candidates from these categories are encouraged. The Department also seeks to have geographic diversity reflected in the composition of the Committee.

The Standards of Ethical Conduct for Employees of the Executive Branch are applicable to individuals who are appointed as public members of Federal advisory committees. Individuals appointed to serve as public members of Federal advisory committees are classified as special Government employees (SGEs). SGEs are Government employees for purposes of the conflict of interest laws. Therefore, individuals appointed to serve as public members of the ACBSA are subject to an ethics review. The ethics review is conducted to determine if the individual has any interest and/or activities in the private sector that may conflict with performance of their official duties as a member of the Committee. Individuals appointed to serve as public members of the Committee will be required to disclose information regarding financial holdings, consultancies, and research grants and/or contracts.

Dated: February 14, 2006.
Jerry A. Holmberg,
Executive Secretary, Advisory Committee on Blood Safety and Availability.

[FR Doc. E6-2561 Filed 2-22-06; 8:45 am]

BILLING CODE 4150-41-P